DEPARTMENT OF JUSTICE

Antitrust Division

Notice Pursuant to the National Cooperative Research and Production Act of 1993—Cooperative Research Group on High-Efficiency Dilute Gasoline Engine II

Notice is hereby given that, on February 19, 2009, pursuant to Section 6(a) of the National Cooperative Research and Production Act of 1993, 15 U.S.C. 4301 et seq. (“the Act''), Southwest Research Institute—Cooperative Research Group on High-Efficiency Dilute Gasoline Engine II (“HEDGE II”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Borg Warner, Auburn Hills, MI; Corning, Inc., Corning, NY; Cummins Inc., Columbus, IN; Deutz AG, Cologne, Germany; Dytech Ensa S.L., Vigo, Spain; Eaton Corporation, Southfield, MI; ExxonMobil Research and Engineering Co., Paulsboro, NJ; Guangxi Yuchai Machinery Co., Ltd., Guangxi, People's Republic Of China; Honda R&D, Tochigi, Japan; Honeywell, Torrance, CA; Lubrizol Corporation, Wickliffe, OH; NGK Insulators, Ltd., Nagoya, Japan; Peugeot Citroen Automobiles, Velizy-Villacoublay, France; and Renault s.a.s, Billancourt, France. The general area of HEDGE II's planned activity is to develop and demonstrate the technologies required to run gasoline engines at efficiencies that are competitive with modern diesel engines in terms of performance but significantly lower emissions levels. The focus of the program will be on efficiency at high specific power levels using elevated levels of exhaust gas recirculation or other forms of charge dilution. Technologies that will be investigated include high-energy ignition systems, high efficiency boosting, fuels and lubricants technology, high EGR operation, and high BMEP operation. Design aspects of the program will be investigated using simulation and hardware testing to examine the effects of engine architecture, EGR loop configuration, pressure charging equipment and design for high cylinder pressures.

Patricia A. Brink,
Deputy Director of Operations, Antitrust Division.

[FR Doc. E9-7391 Filed 4-1-09; 8:45 am]

BILLING CODE 4410-11-M